DEPARTMENT OF ENERGY

Federal Energy Regulatory Commission

Combined Notice of Filings #1

Take notice that the Commission received the following exempt wholesale generator filings:

Docket Numbers: EG16-149-000.

Applicants: North Lancaster Ranch LLC.

Description: North Lancaster Ranch LLC Notice of Self-Certification of Exempt Wholesale Generator Status.

Filed Date: 9/12/16.

Accession Number: 20160912-5825.

Comments Due: 5 p.m. ET 10/3/16.

Take notice that the Commission received the following electric rate filings:

Docket Numbers: ER16-2231-000.

Applicants: NorthWestern Corporation.

Description: Report Filing: Supplemental Information re Revisions to Market-Based Rate Tariff to be effective N/A.

Filed Date: 9/12/16.

Accession Number: 20160912-5903.

Comments Due: 5 p.m. ET 10/3/16.

Docket Numbers: ER16-2492-001.

Applicants: Phoenix Energy New England, LLC.

Description: Tariff Amendment: Amended MBR Tariff Filing to be effective 9/26/2016.

Filed Date: 9/13/16.

Accession Number: 20160913-5391.

Comments Due: 5 p.m. ET 10/4/16.

Docket Numbers: ER16-2527-001.

Applicants: Caprock Solar I LLC.

Description: Tariff Amendment: Supplement to MBR Filing to be effective 11/1/2016.

Filed Date: 9/13/16.

Accession Number: 20160913-5326.

Comments Due: 5 p.m. ET 10/4/16.

Docket Numbers: ER16-2581-000.

Applicants: Western Antelope Dry Ranch LLC.

Description: Baseline eTariff Filing: Western Antelope Dry Ranch LLC SFA to be effective 9/15/2016.

Filed Date: 9/13/16.

Accession Number: 20160913-5015.

Comments Due: 5 p.m. ET 10/4/16.

Docket Numbers: ER16-2582-000.

Applicants: North Lancaster Ranch LLC.

Description: Baseline eTariff Filing: North Lancaster Ranch LLC SFA to be effective 10/1/2016.

Filed Date: 9/13/16.

Accession Number: 20160913-5016.

Comments Due: 5 p.m. ET 10/4/16.

Docket Numbers: ER16-2583-000.

Applicants: Midcontinent Independent System Operator, Inc.

Description: Section 205(d) Rate Filing: 2016-09-13_SA 1563 NIPSCO-Hoosier Wind Project GIA (N001/J431) to be effective 9/14/2016.

Filed Date: 9/13/16.

Accession Number: 20160913-5327.

Comments Due: 5 p.m. ET 10/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2016.
Nathaniel J. Davis, Sr.,
Deputy Secretary.

[FR Doc. 2016-22640 Filed 9-20-16; 8:45 am]

BILLING CODE 6717-01-P